DEPARTMENT OF HEALTH AND HUMAN SERVICES

Centers for Disease Control and Prevention

Disease, Disability, and Injury Prevention and Control Special Emphasis Panel; Occupational Safety and Health Research, Program Announcement (PA) 07-318, and Exploratory Developmental Grants, PA PAR-06-552

In accordance with section 10(a)(2) of the Federal Advisory Committee Act (Pub. L. 92-463), the Centers for Disease Control and Prevention (CDC) announces the following meeting of the aforementioned committee:

Time and Date: 9 a.m.-5 p.m., July 11, 2007 (Closed).

Place: Marriott Waterfront, 700 Aliceanna Street, Baltimore, MD 21202.

Status: The meeting will be closed to the public in accordance with provisions set forth in section 552b(c)(4) and (6), Title 5 U.S.C., and the Determination of the Director, Management Analysis and Services Office, CDC, pursuant to Public Law 92-463.

Matters To Be Discussed: The meeting will include the review, discussion, and evaluation of research grant applications in response to PA 07-318, “Occupational Safety and Health Research,” and PAR 06-552, “Exploratory Developmental Grants.”

Contact Person for More Information: Stephen Olenchock, Ph.D., Scientific Review Administrator, 1095 Willowdale Road, Morgantown, WV 26506, telephone 304.285.6271.

The Director, Management Analysis and Services Office, has been delegated the authority to sign Federal Register notices pertaining to announcements of meetings and other committee management activities, for both CDC and the Agency for Toxic Substances and Disease Registry.

Dated: June 6, 2007.
Elaine L. Baker,
Acting Director, Management Analysis and Services, Office Centers for Disease Control and Prevention

.

[FR Doc. E7-11288 Filed 6-11-07; 8:45 am]

BILLING CODE 4163-18-P